DEPARTMENT OF ENERGY

Federal Energy Regulatory Commission

[Docket No. RP01-411-000]

Kern River Gas Transmission Company; Notice of Tariff Filing

May 10, 2001.

Take notice that on May 7, 2001, Kern River Gas Transmission Company (Kern River) tendered for filing as part of its FERC Gas Tariff, Second Revised Volume No. 1, the following tariff sheets, to be effective June 7, 2001:

Third Revised Sheet No. 71

Sheet Nos. 187-204 (Reserved)

Original Sheet No. 205

Sheet Nos. 206-299 (Reserved)

Third Revised Sheet No. 501

Third Revised Sheet No. 601

Third Revised Sheet No. 701

Third Revised Sheet No. 901

Kern River states that the purpose of this filing is to comply with the Order Issuing Certificate issued April 6, 2001 in Docket No. CP01-106-000 by submitting a proposed tariff provision allowing Kern River to reserve capacity for future expansion projects.

Kern River states that it has served a copy of this filing upon its customers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-12290 Filed 5-15-01; 8:45 am]

BILLING CODE 6717-01-M